DEPARTMENT OF ENERGY

Federal Energy Regulatory Commission

[Project No. 5679-041]

Energy Stream, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 5679-041.

c. Date Filed: July 15, 2022.

d. Applicant: Energy Stream, LLC.

e. Name of Project: M.S.C. Hydroelectric Project (project).

f. Location: On the Quinebaug River in Windham County, Connecticut.

g. Filed Pursuant to: Federal Power Act, 16 U.S.C. 791(a)-825(r).

h. Applicant Contact: Mr. Rolland Zeleny, Energy Stream, LLC, 18 Washington St., Suite 18, Canton, MA 02021; Phone at (603) 498-8089, or email at indigoharbor@yahoo.com.

i. FERC Contact: John Baummer at (202) 502-6837, or john.baummer@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary, Federal Energy Regulatory Commission, 888 First Street NE, Room 1A, Washington, DC 20426. Submissions sent via any other carrier must be addressed to: Secretary, Federal Energy Regulatory Commission, 12225 Wilkins Avenue, Rockville, Maryland 20852. All filings must clearly identify the project name and docket number on the first page: M.S.C. Hydroelectric Project (P-5679-041).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The M.S.C. Project consists of the following existing facilities: (1) a 296-foot-long, 14.3-foot-high granite block and concrete dam that includes: (a) an approximately 38-foot-long headgate structure with four aluminum sluice gates that are each 4 feet wide by 10 feet high; (b) a 115-foot-long granite block spillway section with a concrete cap, 16-inch-high flashboards, and a crest elevation of 287.80 feet mean sea level (msl) at the top of the flashboards; (c) a 5-foot-wide abutment at the northwest end of the spillway; (d) a 7-foot-wide pier at the at the southwest end of the spillway; (e) a 91-foot-long auxiliary concrete gravity spillway section with a crest elevation of 288.70 feet msl; (f) an 8-foot-wide abutment at the southwest end of the auxiliary spillway; and (g) a 32-foot-long retaining wall section with a 10-foot-wide, 10-foot-high stoplog gate and a crest elevation of 289.7 feet msl; (2) an impoundment with a surface area of 52 acres at an elevation of 287.8 feet msl; (3) a 38-foot-wide, 24-foot-long stone and concrete forebay downstream of the headgate structure; (4) a 19-foot-wide, 11-foot-high intake structure at the downstream end of the forebay with a 19-foot-wide, 16.5-foot-high trashrack with 1.6-inch clear bar spacing; (5) a 2-foot-wide, 3-foot-high low-level outlet gate adjacent to the trashrack; (6) a 30-foot-long, 14-foot-wide steel and reinforced concrete powerhouse containing a 400-kilowatt (kW) Kaplan turbine-generator unit and a 112-kW Francis turbine-generator unit, for a total installed capacity of 512 kW; (7) a 50-foot-long, 26-foot-wide tailrace; (8) three 50-foot-long, 2.4-kilovolt (kV) lead lines that connect the generators to three 2.4/23-kV step-up transformers, which connect to the regional grid; and (9) appurtenant facilities The project creates an approximately 65-foot-long bypassed reach of the Quinebaug River.

Article 401 of the current license requires Energy Stream, LLC to operate the project in a run-of-river mode, such that project outflow approximates inflow. Energy Stream, LLC maintains the impoundment at the flashboard crest elevation of 288.74 feet msl. To protect aquatic resources, Article 26 of the current license requires Energy Stream, LLC to release a continuous minimum flow of 144 cubic feet per second (cfs) or inflow to the impoundment, whichever is less, into the downstream reach, as measured immediately below the tailrace. Article 402 of the current license specifies seasonal minimum flow releases to the downstream reach when refilling the impoundment following emergency or maintenance drawdowns, including 90 percent of impoundment inflow.

Article 404 of the current license requires Energy Stream, LLC to provide upstream and downstream passage for American eels. Upstream passage for American eels is provided from June 15 to September 1 by netting placed over the dam and ramps extending to the crest of the flashboards. Downstream American eel passage is provided from September 1 through November 15, on rainy nights and three nights after rain events, through a notch in the flashboards located on the west side of the spillway, and a low-level outlet gate.

The minimum and maximum hydraulic capacities of the powerhouse are 40 and 545 cfs, respectively. The average annual generation of the project was approximately 2,885 megawatt-hours from 2017 through 2021.

Energy Stream, LLC is not proposing any changes to project facilities or operation.

m. A copy of the application can be viewed on the Commission's website at https://www.ferc.gov using the “eLibrary link.” Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural Schedule: The application will be processed according to the following schedule. Revisions to the schedule will be made as appropriate.

Milestone | Target date
Filing of Comments, Recommendations, Terms and Conditions, and Fishway Prescriptions | January 2024.
Filing of Reply Comments | February 2024.

q. Final amendments to the application must be filed with the Commission no later than 30 days from the issuance date of this notice.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 14, 2023.
Kimberly D. Bose,
Secretary.

[FR Doc. 2023-25675 Filed 11-20-23; 8:45 am]

BILLING CODE 6717-01-P